DEPARTMENT OF ENERGY

DOE Response to Recommendation 2012-2 of the Defense Nuclear Facilities Safety Board, Hanford Tank Farms Flammable Gas Safety Strategy; Correction

AGENCY: Department of Energy.

ACTION: Notice; Correction

SUMMARY: The Department of Energy (DOE) published a document in the Federal Register of January 22, 2013, announcing the DOE's Response to Recommendation 2012-2 of the Defense Nuclear Facilities Safety Board, Hanford Tank Farms Flammable Gas Safety Strategy. This document corrects an error in that notice.

FOR FURTHER INFORMATION CONTACT: Requests for additional information or copies of the information collection instrument and instructions should be directed to Steven Petras at steven.petras@hq.doe.gov.

Correction

In the Federal Register of January 22, 2013, in FR Doc. 2013-01132, 78 FR 4404, please make the following correction:

On page 4404, first column, add a DATES section before ADDRESSES to read as follows:

DATES: Comments, data, views, or arguments concerning the Secretary's response are due on or before February 21, 2013.

Mari-Josette Campagnone,
Departmental Representative to the Defense Nuclear Facilities Safety Board, Office of Health, Safety and Security.

[FR Doc. 2013-03161 Filed 2-11-13; 8:45 am]

BILLING CODE 6450-01-P